DEPARTMENT OF JUSTICE

Notice of Lodging of Partial Consent Decree Under the Clean Water Act

Notice is hereby given that on October 6, 2005, a proposed Consent Decree in United States and Department of Health, State of Hawaii v. Hawaii Department of Transportation, Civil Action No. 05-00636 was lodged with the United States District Court for the District of Hawaii.

The United States and the Department of Health, State of Hawaii (“DOH”), brings this action against the State of Hawaii Department of Transportation (“HDOT”), pursuant to Sections 309(b) and (d), of the Clean Water Act (“CWA” or “the Act”), 33 U.S.C. 1319(b) and (d) and Sections 342D-50(a) of the Hawaii Revised Statutes (2004). The Consent Decree provides for extensive injunctive relief, civil penalties, and two supplemental environmental projects (“SEP”s). Pursuant to the terms of the first project, HDOT will create an Environmental Management System (“EMS”) for the operations at HDOT's airports, harbors, and highways that incorporate Best Management Practices and Pollution Prevention at each of its facilities.

Under the terms of the second project, HDOT will develop and conduct “Compliance Assistance Workshops” for construction contractors and will sponsor them at six locations on four of the islands, Hawaii, Kauai, Maui and Oahu.

Pursuant to 28 C.F.R. 50.7, the United States Department of Justice will receive, for a period of thirty (30) days from the date of this publication, comments relating to the Consent Decree. Comments should be addressed to the U.S. Department of Justice, Assistance Attorney General, Environmental and Natural Resources Division, P.O. Box 7611, Ben Franklin Station, Washington, DC 20044-7611, and should refer to United States and Department of Health, State of Hawaii v. Hawaii Department of Transportation, Civil Action No. 05-00636, D.J. Ref. No. 90-5-1-1-07488.

The Consent Decree may be examined during the public comment period on the following Department of Justice Web site: http://www.usdoj.gov/enrd/open.html. A copy of the Consent Decree may also be obtained by mail from the Consent Decree Library, U.S. Department of Justice, P.O. Box 7611, Ben Franklin Station, Washington, DC 20044-7611, or by faxing or E-mailing a request to Tonia Fleetwood (tonia.fleetwood@usdoj.gov), fax number (202) 514-0097, phone confirmation number (202) 514-1547. When requesting a copy from the Consent Decree Library, please enclose a check in the amount of $25.25 (25 cents per page reproduction cost) payable to the U.S. Treasury.

Ellen M. Mahan,
Assistant Section Chief, Environmental Enforcement Section, Environment and Natural Resources.

[FR Doc. 05-21362 Filed 10-25-05; 8:45 am]

BILLING CODE 4410-15-M